DEPARTMENT OF THE INTERIOR

National Park Service

[NPS-WASO-NAGPRA-NPS0037057; PPWOCRADN0-PCU00RP14.R50000]

Notice of Inventory Completion: U.S. Department of the Interior, Fish and Wildlife Service, Lahontan National Fish Hatchery, Gardnerville, NV

AGENCY: National Park Service, Interior.

ACTION: Notice.

SUMMARY: In accordance with the Native American Graves Protection and Repatriation Act (NAGPRA), the U.S. Department of Interior, Fish and Wildlife Service, Lahontan National Fish Hatchery has completed an inventory of human remains and associated funerary objects and has determined that there is a cultural affiliation between the human remains and associated funerary objects and Indian Tribes or Native Hawaiian organizations in this notice. The human remains and associated funerary objects were removed from Douglas County, NV.

DATES: Repatriation of the human remains and associated funerary objects in this notice may occur on or after January 12, 2024.

ADDRESSES: Patrick W. Rennaker, Archaeologist, U.S. Fish and Wildlife Service, Cultural Resources Team, Columbia Pacific Northwest and Pacific Islands (R1), and Pacific Southwest (R8), 20555 Gerda Lane, Sherwood, OR 97140, telephone (503) 294-7490, email patrick_rennaker@fws.gov.

SUPPLEMENTARY INFORMATION: This notice is published as part of the National Park Service's administrative responsibilities under NAGPRA. The determinations in this notice are the sole responsibility of the Lahontan National Fish Hatchery. The National Park Service is not responsible for the determinations in this notice. Additional information on the determinations in this notice, including the results of consultation, can be found in the inventory or related records held by the Lahontan National Fish Hatchery.

Description

Human remains representing, at minimum, three individuals were removed from Douglas County, NV. In April of 1969, Richard Messier of the National Park Service contacted the Nevada Archaeological Service to investigate a burial site which had been exposed during road improvement activities. The site was situated on the crest of a hill at the junction of Highway 395 and the Fish Hatchery access road six miles south of Garnerville. Three distinct burial pits were visible in the cut-bank of the hill, with human remains and groundstone present on the slope in front of the cut-bank. University of Nevada Reno investigators Dr. Don Fowler, Dr. Catherine Fowler, and Dr. Don Hardesty inspected the site and determined that the likelihood of further damage was high and that the best possible recourse at the time was to recover as much of the disturbed material as possible. They subsequently recovered human remains from the three burial pits and disturbed human remains below the cut-bank. It is noted that a disk shell bead was collected from the topsoil fill above the burial pits. No other associated grave materials were identified at the time of excavation. National Park Service employees also collected several human remains elements before the Nevada Archaeological Service arrived, and these were given to the investigators upon arrival. The Research Museum at the University of Nevada, Reno agreed to house this material on permanent loan from the U.S. Fish and Wildlife Service.

The initial inspection noted that the first individual is probably a young adult male between the ages of 14 and 20, the second is an adult male, and the third is an adult but too incomplete for further comment. The original site records indicate that one shell disc bead was present in the fill above Burial One. Another was possibly associated with Burial Two. The original notes indicate the beads were removed during excavation, but nothing in the paperwork denotes that these items were curated. No disk shell beads relating to this assemblage could be located during the 1995, 2021, and 2023 inventory process. In 2021, Museum staff located four manos labeled as belonging to 26DO300 in a stack of artifacts to be rehoused. There is no record of these objects in the Summary of Findings. It is assumed that the manos were acquired after the original excavation and the associated funerary objects arrived at the Museum at a later unknown date from the Park Service employees that collected elements prior to the Nevada Archaeological Service arrival as noted. The four associated funerary objects are four stone manos.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: based on lifeway, oral tradition, folklore, geography, anthropology, ethnography, archeology, and expert opinion.

Determinations

Pursuant to NAGPRA and its implementing regulations, and after consultation with the appropriate Indian Tribes and Native Hawaiian organizations, the Lahontan National Fish Hatchery has determined that:

• The human remains described in this notice represent the physical remains of three individuals of Native American ancestry.

• The four objects described in this notice are reasonably believed to have been placed with or near individual human remains at the time of death or later as part of the death rite or ceremony.

• There is a relationship of shared group identity that can be reasonably traced between the human remains and associated funerary objects described in this notice and the Washoe Tribe of Nevada & California (Carson Colony, Dresslerville Colony, Woodfords Community, Stewart Community, & Washoe Ranches).

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 12, 2024. If competing requests for repatriation are received, the Lahontan National Fish Hatchery must determine the most appropriate requestor prior to repatriation. Requests for joint repatriation of the human remains and associated funerary objects are considered a single request and not competing requests. The Lahontan National Fish Hatchery is responsible for sending a copy of this notice to the Indian Tribes and Native Hawaiian organizations identified in this notice.

Authority: Native American Graves Protection and Repatriation Act, 25 U.S.C. 3003, and the implementing regulations, 43 CFR 10.9, 10.10, and 10.14.

Dated: December 6, 2023.
Melanie O'Brien,
Manager, National NAGPRA Program.

[FR Doc. 2023-27371 Filed 12-12-23; 8:45 am]

BILLING CODE 4312-52-P